DEPARTMENT OF ENERGY

Federal Energy Regulatory Commission

[Project No. 10163-005]

L.P. Athol Corporation, MassGrow, LLC; Notice of Transfer of Exemption

1. By letter filed August 22, 2018, Vincent J. Purple, President, L.P. Athol Corporation, exemptee informed the Commission that the exemption from licensing for the Cresticon Project No. 10163, originally issued February 12, 1988 ¹ has been transferred to MassGrow, LLC. The project is located on Millers River in Worcester County, Massachusetts. The transfer of an exemption does not require Commission approval.

¹ Order Granting Exemption From Licensing (5 MW or Less). Cresticon, Inc., 42 FERC ¶62,110 (1988).

2. MassGrow, LLC is now the exemptee of the Cresticon Project No. 10163. All correspondence should be forwarded to: Mr. Frank Perullo, COO, MassGrow, LLC, 137 Lewis Wharf, Boston, MA 02110, Phone: 617-721-5844, Email: fp@novus-grp.com

Dated: August 28, 2018.
Kimberly D. Bose,
Secretary.

[FR Doc. 2018-19087 Filed 8-31-18; 8:45 am]

BILLING CODE 6717-01-P